DEPARTMENT OF AGRICULTURE

Rural Utilities Service

[Docket #: RUS-24-TELECOM-0037]

Notice of Funding Opportunity for the Community Connect Grant Program for Fiscal Year 2025

AGENCY: Rural Utilities Service, USDA.

ACTION: Notice.

SUMMARY: The Rural Utilities Service (RUS or the Agency), a Rural Development (RD) agency of the United States Department of Agriculture (USDA), announces the acceptance of applications under the Community Connect Grant (CCG) program for fiscal year (FY) 2025. This notice is being issued prior to passage of an FY 2025 appropriations act in order to allow applicants sufficient time to prepare their applications and give the Agency time to process applications within FY 2025. Based on FY 2024 appropriated funding, the Agency estimates that approximately $26 million will be available, for FY 2025. These grant funds will be made available to eligible applicants to construct broadband networks that provide service on a community-oriented connectivity basis in rural areas. All applicants are responsible for any expenses incurred in developing their applications.

DATES: The application window opens on February 20, 2025. Completed applications for grants must be submitted electronically by no later than 11:59 a.m. eastern time (ET), April 21, 2025.

ADDRESSES: All applications must be submitted electronically at: https://www.rd.usda.gov/community-connect. This funding opportunity will also be posted to https://www.grants.gov.

FOR FURTHER INFORMATION CONTACT: Randall Millhiser, Deputy Assistant Administrator, Office of Loan Origination and Approval, Rural Utilities Service, U.S. Department of Agriculture, 1400 Independence Avenue SW, Mail Stop 1590, Room 4121-S, Washington, DC 20250-1590, telephone: (202) 720-0800, email: Randall.Millhiser@usda.gov.

For inquiries regarding eligibility concerns, please contact the Community Connect Program Staff at https://www.rd.usda.gov/programs-services/telecommunications-programs/community-connect-grants#contact.

SUPPLEMENTARY INFORMATION:

Overview

Federal Awarding Agency Name: Rural Utilities Service.

Funding Opportunity Title: Community Connect Grant Program.

Announcement Type: Notice of Funding Opportunity (NOFO).

Funding Opportunity Number: RDRUS-CC-2025.

Assistance Listing: 10.863.

Dates: Completed electronic applications must be filed through https://www.rd.usda.gov/community-connect. The application window opens on February 20, 2025. Completed applications for grants must be submitted electronically by no later than 11:59 a.m. ET, April 21, 2025. Late or incomplete applications will not be accepted.

Rural Development Key Priorities: The Agency encourages applicants to consider projects that will advance the following key priorities (more details available at https://www.rd.usda.gov/priority-points):

• Creating More and Better Markets. Assisting rural communities to recover economically through more and better market opportunities and through improved infrastructure.

• Advancing Racial Justice, Place-Based Equity, and Opportunity. Ensuring all rural residents have equitable access to RD programs and benefits from RD funded projects.

• Addressing Climate Change and Environmental Justice. Reducing climate pollution and increasing resilience to the impacts of climate change through economic support to rural communities.

A. Program Description

1. Purpose of the Program. The program provides financial assistance to eligible applicants that will provide service at or above the broadband grant speed to all premises in rural, economically-challenged communities where broadband service does not exist. The deployment of broadband services on a “community-oriented connectivity” basis stimulates economic development and provides enhanced educational and health care opportunities in rural areas.

2. Statutory and Regulatory Authority. The CCG program is authorized under the Rural Electrification Act of 1936 (RE Act) and implemented by 7 CFR part 1739.

3. Definitions. The definitions applicable to this notice are published at 7 CFR 1739.3 and repeated within the FY 2025 CCG Program Application Guide (Application Guide) available at: https://www.rd.usda.gov/community-connect.

4. Application of Awards. Awards under the CCG program will be made on a competitive basis using specific review criteria contained in 7 CFR 1739.16. The Agency will review, evaluate and score applications received in response to this notice based on the provisions found in 7 CFR 1739.17 and as indicated in this notice. The Agency advises all interested parties that the applicant bears the full burden in preparing and submitting an application in response to this notice.

B. Federal Award Information

Type of Award: Grants.

Fiscal Year Funds: FY 2025.

Available Funds: The Agency estimates that approximately $26 million will be available for FY 2025, based on FY 2024 amounts. RUS may at its discretion, increase the total level of funding available in this funding round from any available source provided the awards meet the requirements of the statute which made the funding available to the agency.

Minimum Award: $100,000.

Maximum Award: $5,000,000.

Anticipated Award Date: September 2025.

Performance Period: 3 years.

Renewal or Supplemental Awards: While prior Community Connect grants cannot be renewed, existing Community Connect awardees can submit applications for new projects. The Agency will evaluate project proposals from existing awardees as new applications. Only one grant application per applicant is eligible for approval under this grant opportunity.

Type of Assistance Instrument: Grant.

C. Eligibility Information

1. Eligible Applicants. Eligible applicants must meet the eligibility requirements of 7 CFR 1739.10. Only entities legally organized as one of the following are eligible for Community Connect Grant Program financial assistance:

(a) Incorporated organization;

(b) Indian Tribe or Tribal organization, as defined in 25 U.S.C. 5304;

(c) State government;

(d) Local unit of government;

(e) Any other legal entity, including a cooperative, private corporation, or limited liability company organized on a for-profit or not-for-profit basis.

References in this program to a State, State government, or State agency are meant to include the Commonwealth of Puerto Rico, the Virgin Islands of the United States, Guam, American Samoa, the Commonwealth of the Northern Mariana Islands, the Federated States of Micronesia, Palau, and the Marshall Islands.

Applicants must have the legal capacity and authority to enter into contracts, to comply with applicable Federal statutes and regulations, and to own and operate the broadband facilities as proposed in their application. Corporations that have been convicted of a Federal felony within the past 24 months are not eligible. Any corporation that has been assessed to have any unpaid Federal tax liability, for which all judicial and administrative remedies have been exhausted or have lapsed and is not being paid in a timely manner pursuant to an agreement with the authority responsible for collecting the tax liability, is not eligible for financial assistance.

2. Cost Sharing or Matching. The Program requires matching contributions as specified in 7 CFR 1739.14. The Application Guide provides additional information on required matching contributions.

3. Other Eligibility Requirements.

All submitted proposals must meet the eligibility requirements listed at 7 CFR 1739.11. For FY 2025 applications, the following additional eligibility requirements apply:

(a) Proposed Funded Service Area (PFSA). The applicant must define a contiguous geographic, area located entirely within an eligible rural area, in which Broadband Service does not exist and where the applicant proposes to offer service at the Broadband Grant Speed to all residential and business customers. The PFSA may consist of multiple municipalities and may be located in more than one State.

(i) RUS will validate that broadband service does not exist in areas that applicants describe as having no broadband access or access that is less than 10 Megabits per second (Mbps) downstream plus 1 Mbps upstream. For the purposes of this notice, the Agency will leverage the latest version of the Federal Communication Commission's (FCC) Location Fabric dataset, which is a standardized list of locations for the Broadband Data Collection, to help determine the number of premises located in the PFSA.

(ii) The broadband grant speed is 100 Mbps downstream and 20 Mbps upstream for fixed terrestrial broadband service, whether fixed or wireless.

(iii) A PFSA must not overlap with service areas of current RUS borrowers and grantees.

(iv) Areas already receiving Federal funding to construct terrestrial facilities providing at least 10 Mbps downstream and/1 Mbps upstream service in the project PFSA as of the date of this notice, and which have been reported to the Agency, are ineligible. As a result, no CCG funds may be used to duplicate costs, services, connections, facilities, or equipment that have been authorized under such areas. Applicants submitting a project to serve an area in which the same entity has already received final approval for other Federal funding must explain in the application why CCG funding is being requested and why RUS should provide additional funding, as funds must not be used for duplicative purposes. Awardees that receive both other Federal funds and CCG funding must submit a statement certifying that the funds requested from the CCG program have not and will not be reimbursed by another Federal award nor used to reimburse another Federal award, and that the Awardee will keep separate accounts for each source of funding to track the uses of the funding to support the certification statement submitted with the CCG application. RUS can consider adjusting the service area or award amount of a project selected for CCG funding if, in the course of evaluating an application, the Agency learns that the service area or a portion of it is already sufficiently served or has received final approval for Federal funding to construct facilities that will provide sufficient access to broadband service as defined under this notice.

(v) Areas that have an Enforceable Commitment at the time of publication of this notice are ineligible for CCG funds. For this notice only, Enforceable Commitment means a legally enforceable obligation by any Federal, State, or local agency, utilizing Federal funds, to provide broadband service with speeds of at least 10Mbps downstream and 1 Mbps upstream. Enforceable commitments do not negate the Agency's intention to coordinate and communicate with Federal partners before extending an offer to ensure awards made under this application window do not duplicate awards made by other Federal and State partners. However, if an applicant submits evidence that the entity that received the Enforceable Commitment has not deployed broadband service as required by the awarding Agency's regulations or award documents, the Agency may consider such area eligible for funding after consultation with the awarding agency. To assist applicants with identifying areas that are already receiving Federal funds to deploy broadband, areas with Enforceable Commitments are identified in a GIS layer located in the RUS mapping tool and on the FCC's National Broadband Funding Map.

(vi) A Tribal Resolution of Consent from the appropriate Tribal body with jurisdiction over the Tribal Lands at issue is required if service is being proposed over or on Tribal Lands. Tribal Lands are identified on the GIS layers included in the Community Connect mapping tool located at rd.usda.gov/community-connect. Resolutions of Tribal Consent are not required when a Federally Recognized Tribe is the applicant proposing service on its own Tribal Lands. Any non-Tribal applicant that fails to provide a Resolution of Consent when proposing service on Tribal Lands identified in the PFSA will not be considered for funding. The intent of the Tribal Resolution of Consent is to ensure that Federally Recognized Tribes being served by a non-Tribal applicant authorize the construction of broadband infrastructure on their Tribal Lands if an award is made. However, all environmental, permitting and rights-of-way requirements must still be completed, and adhered to, by applicants prior to initiating construction on Tribal Lands. Therefore, ongoing communication and collaboration will be required to ensure the timely and mutually agreeable build out of the funded infrastructure. Applicants and Tribes that have questions regarding this process are encouraged to contact Telecom Program staff, USDA Rural Development's Tribal Relations Team or USDA's Office of Tribal Relations.

(vi) The Consolidated Appropriations Act, 2022 (Pub. L. 117-103), the Consolidated Appropriations Act, 2023 (Pub. L. 117-328), and the Consolidated Appropriations Act, 2024 (Pub. L. 118-42) included funding under the ReConnect Program for Community Project Funding/Congressionally Directed Spending projects. The proposed service areas for these projects are not eligible for funding under this NOFO. A GIS layer of the proposed service areas for these projects will be made available in the CCG mapping tool located at: https://www.rd.usda.gov/community-connect.

(b) Essential Community Facilities. The applicant must propose to offer free service at the Broadband Grant Speed to all participating Essential Community Facilities located within the PFSA for at least two (2) years.

(c) Community Center. The applicant must provide a Community Center within the PFSA with a minimum of two (2), and up to ten (10), computer access points and wireless access at the Broadband Grant Speed, free of all charges, to all users for at least two (2) years. Grant funds used for the improvement, expansion, construction, or acquisition of a community center must not exceed the lesser of 10 percent of the requested grant amount or $150,000.

D. Application and Submission Information

1. Address to Request Application Package. The Application Guide, copies of necessary forms and resources are available at: https://www.usda.gov/community-connect. Application information is also available at https://www.grants.gov/.

2. Content and Form of Application Submission.

(a) Application Completion. Carefully review the Application Guide and 7 CFR part 1739, which detail all relevant forms and worksheets. The components of a complete application can be found at 7 CFR 1739.15, and the Application Guide and Community Connect Application Checklist.

(b) Submission of Application Items. Given the high volume of program interest, applicants should submit the application items in the order indicated in the Application Guide. Applications that are not assembled and tabbed in the specified order prevent timely determination of eligibility. For FY 2025, one proposal per applicant is eligible for approval. If an applicant submits more than one proposal, then the Agency will only consider the application with the highest score.

3. System for Award Management and Unique Entity Identifier.

(a) At the time of application, each applicant must have a Unique Entity Identifier (UEI) and an active registration in the System for Award Management (SAM) before submitting its application in accordance with 2 CFR part 25. Instructions for obtaining the UEI are available at https://sam.gov/content/entity-registration.

(b) Applicant must maintain an active SAM registration, with current, accurate and complete information, at all times during which it has an active Federal award or an application under consideration by a Federal awarding agency.

(c) Applicant must ensure they complete the Financial Assistance General Certifications and Representations in SAM.

(d) Applicants must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times.

(a) Application Technical Assistance: Prior to official submission of applications, applicants may request technical assistance or other application guidance from the Agency, as long as such requests are made prior to the closing of the application window.

(b) Application Deadline Date: Completed electronic applications must be filed through https://www.rd.usda.gov/community-connect. The application window opens on February 20, 2025. Completed applications for grants must be submitted electronically by no later than 11:59 a.m. ET, April 21, 2025.

(c) Applications Received After Deadline Date: If completed applications are not received by the application deadline date provided in section D.4(b) above, the application will neither be reviewed nor considered for funding under any circumstances.

5. Funding Restrictions. Ineligible grant purposes are listed at 7 CFR 1739.13. Grant funds may not be used to finance the duplication of lines, facilities, or systems providing broadband service.

6. Other Submission Requirements. Applications will not be accepted via mail, fax or electronic mail. Electronic applications for grants must be submitted through the Agency's online application intake system. The Agency's online application intake system can be found on the CCG website at: https://www.rd.usda.gov/community-connect.

The Agency's online application intake system requires all users to obtain Level II eAuthentication (eAuth) accounts and for applicant users to submit an Authorized Representative Request (ARR) and a resolution in order to access the Agency's online application intake system to submit an application. These procedures may take several business days to complete; therefore, the applicant should complete the registration, credentialing, and authorization procedures before submitting an application. eAuth partnered with Login.gov to provide our public customers multi-factor authentication (MFA) login options for secure and convenient access to USDA sites. For USDA sites that require users to login using Login.gov credentials, those users will need to link their eAuth accounts with their Login.gov accounts. Once a public customer links a Login.gov account to eAuth, the customer will use it for all future access to eAuth protected USDA applications. Instructions on creating a Level II eAuthentication account are available at: https://www.eauth.usda.gov/home/. Instructions on creating a Login.gov account and linking it to eAuth are available at: https://login.gov/. If system errors or technical difficulties occur, use the Contact Us Form available on the Community Connect website at: https://www.rd.usda.gov/programs-services/telecommunications-programs/community-connect-grants#contact.

The Agency reserves the right to ask applicants for clarifying information and additional verification of assertions in the application.

E. Application Review Information

1. Criteria.

(a) Scoring Criteria. All scoring criteria is outlined in 7 CFR 1739.17 and in the Application Guide.

(b) Ineligible Areas. RUS will not fund projects located in an area that does not meet the definition of “rural area” found in 7 CFR 1739.3.

(c) Pending Applications. RUS will not fund more than one project that proposes to provide broadband service in the same geographic area. If a project overlaps the PFSA of an application already submitted to the Rural eConnectivity Program (ReConnect Program), the Telecommunications Infrastructure Loan and Loan Guarantee Program, or the Rural Broadband Access Loan and Loan Guarantee Program, the project will not be considered until a determination is made on the previously submitted application.

(d) Substantially Underserved Trust Areas (SUTA). Applicants seeking assistance may request consideration under the SUTA provisions in 7 U.S.C. 936f.

(i) If the Administrator determines that a community within “trust land” (as defined in 38 U.S.C. 3765) has a high need for the benefits of the Program, the Administrator may designate the community as a “substantially underserved trust area” (as defined in section 306F of the REAct).

(ii) To receive consideration under SUTA, the applicant must submit to the Agency a completed application that includes all information requested in 7 CFR part 1700, subpart D. In addition, the application must identify the discretionary authorities within subpart D that it seeks to have applied to its application.

2. Review and Selection Process. Once the Agency has received the application, the Agency will publish a public notice of each application in accordance with 7 CFR 1739.15(l). The CCG Public Notice Filings for each application may be found at https://www.rd.usda.gov/community-connect and clicking the “Public Notice Filings” button. The Agency will use the information submitted to determine if there is sufficient access to broadband in any part of the PFSA. Public notice responders should note that the Agency may request additional information or work directly with the responder to verify the accuracy of its public notice response. Additionally, responders should be aware that the agency will use all available rights and remedies for responses to the Agency that are clearly inaccurate despite the responder's certification to the government otherwise, and that such filings abuse Federal resources intended to ensure that the Agency validate eligible applications. In the event there are no public notice responses to a CCG application, the Agency will still use all information available in evaluating the eligibility of the project.

Grants are awarded in rank order, subject to the availability of funds and consistent with 7 CFR 1739.16 and 7 CFR 1739.17. It should be noted that an application receiving fewer points can be selected over an application receiving more points in the event that there are insufficient funds available to cover the costs of the higher scoring application or if the higher scoring application would consume a disproportionate amount of funds available relative to its ranking, as stated in 7 CFR 1739.16(f).

The Agency reserves the right to offer the applicant a lower amount than the amount proposed in the application, as stated in 7 CFR 1739.16(g).

If the Agency receives more than one proposal from the same applicant, then the Agency will only consider the application with the highest score, except in accordance with 7 CFR 1739.16(f).

F. Federal Award Administration Information

1. Federal Award Notices.

(a) RUS notifies applicants whose projects are selected for awards by mailing and/or emailing a copy of an award letter. The receipt of an award letter does not authorize the applicant to commence performance under the award. After sending the award letter, the Agency will send an agreement that contains all the terms and conditions for the grant.

(b) An applicant must execute and return the grant agreement, accompanied by any additional items required by the agreement, within the number of days specified in the selection notice letter.

2. Administrative and National Policy Requirements. The items listed in this announcement, the CCG program regulation, the Application Guide, and program resources implement the appropriate administrative and national policy requirements, which include but are not limited to:

(a) Executing a CCG Agreement.

(b) Using Form SF 270, “Request for Advance or Reimbursement,” to request reimbursements (along with the submission of receipts for expenditures, timesheets, and any other documentation to support the request for reimbursement).

(c) Ensuring that records are maintained to document all activities and expenditures utilizing CCG funds and matching funds (receipts for expenditures are to be included in this documentation).

(d) Complying with policies, guidance, and requirements as described in the following applicable Code of Federal Regulations, and any successor regulations:

(i) 2 CFR parts 200 and 400 (Uniform Administrative Requirements, Cost Principles, and Audit Requirements for Federal Awards). The Government must be provided an exclusive first lien on all grant assets during the service obligation of the grant, and thereafter any sale or disposition of grant assets must comply with the Uniform Administrative Requirements, Cost Principles, and Audit Requirements for Federal Awards, codified in 2 CFR part 200. Note that this part will apply to ALL grant funds of an Awardee, regardless of the entity status or type of organization.

(ii) 2 CFR parts 417 and 180 (Governmentwide Nonprocurement Debarment and Suspension).

(iii) Complying with Executive Order 13166, “Improving Access to Services for Persons with Limited English Proficiency.” For information on limited English proficiency and agency-specific guidance, go to https://www.LEP.gov.

(iv) Accountability and Compliance with Civil Rights Laws. The regulation found at 7 CFR part 1901, subpart E contains policies and procedures for implementing the regulations of the Department of Agriculture issued pursuant to title VI of the Civil Rights Act of 1964, title VIII of the Civil Rights Act of 1968, title IX, section 504 of the Rehabilitation Act of 1973, Executive Order 13166, Executive Order 11246, and the Equal Credit Opportunity Act of 1974, as they relate to Rural Development. Nothing herein shall be interpreted to prohibit preference to American Indians on Indian Reservations.

(1) The policies contained in this subpart apply to recipients. As recipients of Federal financial assistance, awardees are required to comply with the applicable Federal, State and local laws. Title VI of the Civil Rights Act of 1964 and Section 504 of the Rehabilitation Act prohibits discrimination by recipients of Federal financial assistance. Recipients are required to adhere to specific outreach activities. These outreach activities include contacting community organizations and leaders that include minority leaders; advertising in local newspapers and other media throughout the entire service area; and including the nondiscrimination slogan, “This is an Equal Opportunity Program. Discrimination is prohibited by Federal Law,” in methods that may include, but not be limited to, advertisements, public broadcasts, and printed materials, such as brochures and pamphlets. All recipients must submit and have on file a valid Form RD 400-1 (Equal Opportunity Agreement); and RD Form 400-4 (Assurance Agreement).

(2) By completing the SAM Certification and Representations, recipients affirm they will operate the program free from discrimination. The recipient will maintain the race and ethnic data on the board members and beneficiaries of the program. The recipient will provide alternative forms of communication to persons with limited English proficiency. The Agency will conduct Civil Rights Compliance Reviews on recipients to identify the collection of racial and ethnic data on program beneficiaries. In addition, the Compliance Review will ensure that equal access to the program benefits and activities are provided for persons with disabilities and language barriers.

(e) Geospatial Data. Awardee, and any and all contracts entered into by the Awardee with respect to the Award, shall ensure that geospatial data required to be collected and provided to the Agency, conforms with the requirements of USDA Department Regulation DR-3465-001 and the Geospatial Metadata Standards set forth in DM 3465-001, which can be obtained online at https://www.usda.gov/directives/dr-3465-001 and https://www.usda.gov/directives/dm-3465-001.

3. Reporting.

(a) Annual Project Performance Activity Report. All recipients of Community Connect financial assistance must provide annual project performance activity reports to RUS until the project is complete and the funds are expended. A final performance report is also required; the final report may serve as the last annual report. The final report must include an evaluation of the success of the project in meeting the Community Connect Grant Program objectives. See 7 CFR 1739.19 for additional information on these reporting requirements.

(b) Annual Performance Report. For three years starting the first January 31st after Project Completion, the Awardee must submit the following information utilizing RUS' online reporting system:

(i) Existing network service improvements and facility upgrades, as well as new equipment and capacity enhancements that support high-speed broadband access for educational institutions, health care providers, and public safety service providers;

(ii) The estimated number of end users who are currently using or forecasted to use the new or upgraded infrastructure;

(iii) The progress towards fulfilling the objectives for which the assistance was granted;

(iv) The speed and average price of the most subscribed tier of the Awardee's broadband service offerings in the Project's service area;

(v) The price and number of subscribers who are subscribing to service at the Broadband Grant Speed of 100 Mbps downstream and 20 Mbps upstream; and

(vi) The average price of broadband service in the Project's service area.

(c) Annual Map Reporting: No later than thirty (30) calendar days after the end of the Calendar Year, the Awardee shall be required to submit an updated Approved Project Service Area map through RUS' online mapping tool showing the areas where construction has been completed and geospatial location of residences and businesses that are receiving new broadband service until the entire Approved Project Service Area can receive the broadband service.

(d) Financial Reporting. All recipients of Community Connect financial assistance must provide an annual audit, consistent with the Community Connect grant agreement, and the applicable USDA audit regulations at 7 CFR 1739.20, 7 CFR part 1773, or 2 CFR part 200, subpart F, as applicable.

(e) Recipient and Sub-recipient Reporting. The applicant must have the necessary processes and systems in place to comply with the reporting requirements for first-tier subawards and executive compensation under the Federal Funding Accountability and Transparency Act of 2006 in the event the applicant receives funding, unless such applicant is exempt from such reporting requirements pursuant to 2 CFR 170.105. The reporting requirements under the Transparency Act pursuant to 2 CFR part 170 are as follows:

(i) First Tier Subawards of $30,000 or more (unless they are exempt under 2 CFR part 170) must be reported by the recipient to fsrs.gov no later than the end of the month following the month the obligation was made. There is currently underway a consolidation of eight Federal procurement systems, including the Federal Subaward Reporting System (FSRS), into one system, SAM. As a result, the FSRS will soon be consolidated into and accessed through sam.gov.

(ii) The total compensation of the recipient's executives (the five most highly compensated executives) must be reported by the recipient (if the recipient meets the criteria under 2 CFR part 170) to https://sam.gov by the end of the month following the month in which the award was made.

(iii) The total compensation of the subrecipient's executives (the five most highly compensated executives) must be reported by the subrecipient (if the sub recipient meets the criteria under 2 CFR part 170) to the recipient by the end of the month following the month in which the subaward was made.

(f) Record Keeping and Accounting. The agreement will contain provisions related to record keeping and accounting requirements.

G. Federal Awarding Agency Contacts

The CCG website maintains up-to-date resources and contact information for the CCG Program. The CCG has a Contact page located at https://www.rd.usda.gov/programs-services/telecommunications-programs/community-connect-grants#contact. For inquiries regarding eligibility concerns, please contact your General Field Representative (GFR) at: https://www.rd.usda.gov/contact-us/telecom-gfr. Persons with disabilities that require alternative means for communication should contact the 711 Relay Service.

H. Build America, Buy America

1. Funding to Non-Federal Entities. Awardees that are Non-Federal Entities, defined pursuant to 2 CFR 200.1 as any State, local government, Indian Tribe, Institution of Higher Education, or nonprofit organization, shall be governed by the requirements of section 70914 of the Build America, Buy America Act (BABA) within the Infrastructure Investment and Jobs Act, Public Law 117-58. Any requests for waiver of these requirements must be submitted pursuant to USDA's guidance available online at https://www.usda.gov/ocfo/federal-financial-assistance-policy/USDABuyAmericaWaiver.

2. Funding to All Other Entities. Awardees that are not Non-Federal Entities shall be governed by the Agency's Buy American requirement at 7 CFR part 1787. Any requests for waiver of these requirements must be submitted pursuant to those regulations.

I. Other Information

1. Paperwork Reduction Act. In accordance with the Paperwork Reduction Act of 1995 (44 U.S.C. chapter 35), the information collection requirements associated with the programs, as covered in this notice, have been approved by the Office of Management and Budget (OMB) under OMB Control Number 0572-0127.

2. National Environmental Policy Act. All recipients under this Notice are subject to the requirements of 7 CFR part 1970.

3. Federal Funding Accountability and Transparency Act. All applicants, in accordance with 2 CFR part 25, must be registered in SAM and have a UEI number as stated in section D.3 of this notice. All recipients of Federal financial assistance are required to report information about first-tier subawards and executive total compensation in accordance with 2 CFR part 170.

4. Civil Rights Act. All grants made under this notice are subject to title VI of the Civil Rights Act of 1964 as required by the USDA (7 CFR part 15, subpart A—Nondiscrimination in Federally-Assisted Programs of the Department of Agriculture—Effectuation of Title VI of the Civil Rights Act of 1964) and section 504 of the Rehabilitation Act of 1973, title VIII of the Civil Rights Act of 1968, title IX, Executive Order 13166 (Limited English Proficiency), Executive Order 11246, and the Equal Credit Opportunity Act of 1974.

5. Equal Opportunity for Religious Organizations.

(a) Faith-based organizations may apply for this award on the same basis as any other organization, as set forth at, and subject to the protections and requirements of, this part and any applicable constitutional and statutory requirements, including 42 U.S.C. 2000bb et seq. USDA will not, in the selection of recipients, discriminate for or against an organization on the basis of the organization's religious character, motives, or affiliation, or lack thereof, or on the basis of conduct that would not be considered grounds to favor or disfavor a similarly situated secular organization.

(b) A faith-based organization that participates in this program will retain its independence from the Government and may continue to carry out its mission consistent with religious freedom and conscience protections in Federal law. Religious accommodations may also be sought under many of these religious freedom and conscience protection laws.

(c) A faith-based organization may not use direct Federal financial assistance from USDA to support or engage in any explicitly religious activities except when consistent with the Establishment Clause of the First Amendment and any other applicable requirements. An organization receiving Federal financial assistance also may not, in providing services funded by USDA, or in their outreach activities related to such services, discriminate against a program beneficiary or prospective program beneficiary on the basis of religion, a religious belief, a refusal to hold a religious belief, or a refusal to attend or participate in a religious practice.

6. Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office or the 711 Relay Service.

To file a program discrimination complaint, a complainant should complete a Form AD-3027, USDA Program Discrimination Complaint Form, which can be obtained online at: https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Andrew Berke,
Administrator, Rural Utilities Service, USDA Rural Development.

[FR Doc. 2024-30454 Filed 1-8-25; 8:45 am]

BILLING CODE 3410-15-P